DEPARTMENT OF EDUCATION

The Equity and Excellence Commission

AGENCY: Office for Civil Rights. U.S. Department of Education.

ACTION: Notice of open meeting. (amended)

SUMMARY: On May 10, 2011 the Assistant Secretary for Civil Rights at the U.S. Department of Education published in the Federal Register (76 FR 27034) a notice of open meeting for the Equity and Excellence Commission. This notice amends the May 10, 2011 notice by providing notice of a closed session on the afternoon of May 23, 2011 and amending the start time of the meeting on May 24, 2011.

This notice sets forth the schedule and proposed agenda of an upcoming open meeting with a closed session of The Equity and Excellence Commission. The notice also describes the functions of the Commission. Notice of this meeting is required by section 10(a)(2) of the Federal Advisory Committee Act and is intended to notify the public of their opportunity to attend. This amended notice is appearing in the Federal Register less than 15 days before the meeting due to the need to add a closed session to the agenda.

DATES: Monday, May 23, 2011 and Tuesday, May 24, 2011.

Time: May 23, 2011: noon to 5:30 p.m.; May 24, 2011: 9:30 a.m. to noon. Closed session will begin at 2:30-5:30 p.m. on May 23, 2011.

ADDRESSES: The Commission will meet at the U.S. Department of Education, 400 Maryland Avenue, SW., Washington, DC. Lyndon Baines Johnson Auditorium.

FOR FURTHER INFORMATION CONTACT: Stephen Chen, Designated Federal Official, Equity and Excellence Commission, U.S. Department of Education, 400 Maryland Avenue, SW., Washington, DC 20202. E-mail: equitycommission@ed.gov. Telephone: (202) 453-6624.

SUPPLEMENTARY INFORMATION: The purpose of the Commission is to collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

The agenda for the Commission's second meeting will include a discussion of the best framework for the report and the finalizing of outlines for each section of the report. The meeting will include a report of outreach activities conducted by the Commission in April and May. The Commission will also meet in closed session at 2:30 on May 23, 2011 to discuss financial matters relevant to the Department's budget and matters that could interfere with proposed agency action with regard to competitive grant programs if discussed publicly and therefore is protected under 5 U.S.C. 552b(c)(9)(B). Due to time constraints, there will not be a public comment period at this meeting, but, individuals wishing to comment may contact the Equity Commission via e-mail at equitycommission@ed.gov.

Individuals interested in attending the meeting must register in advance because seating may be limited. Please contact Kimberly Watkins-Foote at (202) 260-8197 or by e-mail at equitycommission@ed.gov. Individuals who will need accommodations for a disability in order to attend the meeting (e.g., interpreting services, assistive listening devices, or materials in alternative format) should notify Watkins-Foote at (202) 260-8197 no later than May 16, 2011. We will attempt to meet requests for accommodations after this date but cannot guarantee their availability. The meeting site is accessible to individuals with disabilities.

Records are kept of all Commission proceedings and are available for public inspection at the Department of Education, 400 Maryland Avenue, SW., Washington, DC 20202 from the hours of 9 a.m. to 5 p.m. E.S.T.

Russlynn Ali,
Assistant Secretary, Office for Civil Rights, U.S. Department of Education.

[FR Doc. 2011-11950 Filed 5-16-11; 8:45 am]

BILLING CODE 4000-01-P